ENVIRONMENTAL PROTECTION AGENCY

[FRL-7101-6]

Sources, Emission and Exposure for Trichloroethylene (TCE) and Related Chemicals

AGENCY: Environmental Protection Agency (EPA).

ACTION: Notice of availability of a final report.

SUMMARY: The National Center for Environmental Assessment, Office of Research and Development, U.S. Environmental Protection Agency, announces the availability of a final report, Sources, Emission and Exposure for Trichloroethylene (TCE) and Related Chemicals (EPA/600/R-00/099, March 2001). This report is an exposure assessment of Trichloroethylene (TCE), its metabolites, and other chemical compounds known to produce identical metabolites. In addition to TCE, other parent compounds considered here are 1,1,1-trichloroethane (methyl chloroform), tetrachloroethylene (PCE or PERC), 1,2-dichloroethylene (cis-, trans-, and mixed isomers), 1,1,1,2-tetrachloroethane, and 1,1-dichloroethane. The metabolites are chloral, chloral hydrate, monochloroacetic acid, dichloroacetic acid, trichloroacetic acid, and dichloro-vinyl cysteine (DCVC). Although listed here, no information was found for the metabolite, DCVC.

ADDRESSES: The document will be made available electronically through the National Center for Environmental Assessment's web site (www.epa.gov/ncea). A limited number of paper copies are available from EPA's National Service Center for Environmental Publications (NSCEP). To obtain copies, please contact NSCEP, P.O. Box 42419, Cincinnati, OH 45242; telephone: 1-800-490-9198 or 513-489-8190; facsimile: 513-489-8695. Please provide your name and mailing address and the title and EPA number of the requested publication.

FOR FURTHER INFORMATION CONTACT: Chieh Wu, National Center for Environmental Assessment-Washington Office (8623D), U.S. Environmental Protection Agency, Washington DC 20460; telephone: 202-564-3257; facsimile: 202-565-0076; e-mail: wu.chieh@epa.gov.

Dated: November 1, 2001.
George W. Alapas,
Acting Director, National Center for Environmental Assessment.

[FR Doc. 01-28195 Filed 11-8-01; 8:45 am]

BILLING CODE 6560-50-P